DEPARTMENT OF LABOR

Employment and Training Administration

[TA-W-62,277]

Volt Technical Resources, LLC, Loveland, CO; Notice of Termination of Investigation

Pursuant to Section 221 of the Trade Act of 1974, as amended, an investigation was initiated on October 10, 2007 in response to a petition filed by a company official on behalf of workers of Volt Technical Resources, LLC, Loveland, Colorado.

All workers of the subject firm are covered by a certification of eligibility to apply for worker adjustment assistance and alternative trade adjustment assistance under amended petition number TA-W-60,023, that does not expire until October 27, 2008.

Consequently, further investigation in this case would serve no purpose and the investigation under this petition has been terminated.

Signed at Washington, DC, this 19th day of October 2007.
Linda G. Poole,
Certifying Officer, Division of Trade Adjustment Assistance.

[FR Doc. E7-21183 Filed 10-26-07; 8:45 am]

BILLING CODE 4510-FN-P